DEPARTMENT OF TRANSPORTATION

Federal Railroad Administration

[Docket No. FRA-2025-0012]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before May 12, 2025.

ADDRESSES: Written comments and recommendations for the proposed ICR should be submitted on www.regulations.gov to the docket, Docket No. FRA-2025-0012. All comments received will be posted without change to the docket, including any personal information provided. Please refer to the assigned OMB control number (2130-0526) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Control of Alcohol and Drug use in Railroad Operations.

OMB Control Number: 2130-0526

Abstract: This ICR covers information collected pursuant to FRA regulations at 49 CFR part 219—Control of Alcohol and Drug Use. FRA and the railroad industry use the information collected to improve railroad safety through the detection and deterrence of alcohol and illicit drug use by railroad or contractor employees who meet the definition of “regulated employee” in § 219.5.¹ For example, FRA uses the information collected to ensure that regulated employees are subject to a random alcohol and drug testing program in which each employee has a reasonable expectation of being tested at any time while on-duty. This information collection also covers on-duty railroad or contractor employees involved in a train incident who die within 12 hours of the incident due to the operation of on-track equipment, regardless of whether the employee was performing regulated service at the time. Information is also collected regarding foreign-railroads' foreign-based employees who perform train or dispatching service in the United States.

¹ On February 2, 2022, as mandated by the Substance Use-Disorder Prevention that Promotes Opioid Recovery and Treatment for Patients and Communities Act, FRA published a final rule that revised the definition of “regulated employee” to include a “MECH employee”, thereby expanding the scope of its alcohol and drug regulation to cover “all employees of railroad carriers who perform mechanical activities.” 87 FR 5719 and 5724. The definition of “regulated employee” also includes railroad and contractor employees who are “roadway workers” (as defined in 49 CFR 214.7) or who perform covered services under the hours of service laws (49 U.S.C. 21101, 21104, or 21105).

In this 60-day notice, FRA has made multiple adjustments to the previously approved burden hours. While some reported burden hours have been increased, the overall number of burden hours has decreased from the previously approved 4,830 hours to 2,674 hours. For instance:

• Under § 219.4, Recognition of a foreign railroad's workplace testing program, the estimated burden associated with comments received on petitions pursuant to paragraph (e) was removed. Comments received from the public, in response to general solicitations published in the Federal Register, are not considered information under the PRA.²

² 5 CFR 1320.3(h)(4).

• Under § 219.23, Railroad policies, FRA reviewed paragraph (a) and determined the previously reported burden was underestimated as it reflected the average time of 3 seconds needed for a verbal notice rather than the 30 seconds needed for a written notice of testing. The burden hours in this submission have been adjusted accordingly.

• Under § 219.23(c), railroads must develop and publish educational materials, specifically designed for regulated employees, that clearly explain the requirements of part 219. Generally, railroads have already developed these materials and will not incur substantial additional burdens due to this regulatory requirement. FRA has reduced the estimated burden to reflect only the time spent by those railroads that choose to revise the required educational materials. It is estimated that only 10 percent of the 654 railroads provided hardcopy educational materials to employees. Some railroads post brochures in the breakroom, but the majority share these materials electronically, as exemplified by Class I railroads who refer employees to the company's intranet.

• Under § 219.203, Responsibilities of railroads and employees, FRA reviewed paragraph (g), Obtaining cooperation of facility, and determined that this regulatory requirement does not create any additional paperwork burden. Rather, § 219.203(g) requires a railroad to reference the requirements of subpart C and the instructions in FRA's post-accident toxicological shipping kit as the applicable regulatory authority when obtaining specimens from an uncooperative medical facility in a post-accident testing event.

• FRA found that the burdens associated with § 219.25, Previous employer drug and alcohol checks, and § 219.800, Annual reports, are covered under OMB control number 2105-0529, Procedures for Transportation Drug and Alcohol Testing Program. Thus, FRA has removed the previously reported burden hours associated with these requirements.

Type of Request: Extension without change (with changes in estimates) of a currently approved collection.

Affected Public: Railroads.

Forms(s): FRA F 6180.73; 6180.74; 6180.75.

Respondent Universe: 654 railroads (includes 2 foreign-based railroads); 2,600 regulated contractors; and 160,822 regulated employees.

Frequency of Submission: On occasion.

³ The dollar equivalent cost is derived from the 2023 Surface Transportation Board Full Year Wage A&B data series using employee group 200 (Professional Administrative Staff) hourly wage rate of $50.93. The total burden wage rate (straight time plus 75%) used in the table is $89.13 ($50.93 × 1.75 = $89.13).

Reporting Burden
CFR section | Respondent universe | Total annual responses | Average time per response (hours) | Total annual burden (hours) | Wage rate ³ | Total cost equivalent U.S.D.
|  | (A) | (B) | (C = A * B) | (D) | (E = C * D)
219.4 Recognition of foreign railroad's workplace testing program: |
—Petition submissions to FRA | FRA anticipates zero petitions for the next three-year collection period.
219.7 Waivers:
—Waiver submissions to FRA | 654 railroads, 2,600 regulated contractors | 3 | 90 minutes | 4.50 | $89.13 | $401.09
219.12 Hours-of-service laws implications:
—(d) Employees placed on duty for follow up testing documentation. | 654 railroads, 160,822 regulated employees | 6 | 30 minutes | 3 | 89.13 | 267.39
219.23 Railroad policies:
—(a) Written notification of testing provided to employees | 160,822 regulated employees | 71,978 | 30 seconds | 599.82 | 89.13 | 53,461.96
—(c) Revised educational materials and copies made available to employees | 654 railroads, 160,822 regulated employees | 73 | 1 hour | 73 | 89.13 | 6,506.49
—Hard copies to employees | 654 railroads | 64 | 2 minutes | 2.13 | 89.13 | 189.85
219.104 Responsive action:
—(b) Written notice of removal from regulated service | 160,822 regulated employees | 530 | 2 minutes | 17.67 | 89.13 | 1,574.93
219.105 Railroad's duty to prevent violations:
—(c) Documents provided to FRA upon request regarding RR's alcohol and/or drug use education/prevention program | 654 railroads | 3 | 5 minutes | 0.25 | 89.13 | 22.29
—(d) RR supervisor Rule G observations and records of regulated employees | 654 railroads, 160,822 regulated employees | 321,644 | 2 seconds | 178.69 | 89.13 | 15,926.64
219.201 Events for which testing is required:
—(c) Good faith determinations ⁴ | 654 railroads | 500 | 5 minutes | 41.67 | 89.13 | 3,714.05
—(c)(iii) Report by RR concerning decision by person other than RR representative about whether an accident/incident qualifies for testing | 654 railroads, 160,822 regulated employees | 2 | 30 minutes | 1 | 89.13 | 89.13
219.203 Responsibilities of railroads and employees:
—(d)(1) Notification of failure to collect urine/blood specimens within four hours | 654 railroads, 160,822 regulated employees | 80 | 2 minutes | 2.67 | 89.13 | 237.98
—(e)(5) Documentation and report of employees subject to recall for testing | 654 railroads, 160,822 regulated employees | 4 | 30 minutes | 2 | 89.13 | 178.26
—(g)(2) RR notification to National Response Center of injured employee unconscious or otherwise unable to give testing consent | 654 railroads, 160,822 regulated employees | 2 | 10 minutes | 0.33 | 89.13 | 29.42
219.205 Specimen collection and handling:
—Post Accident Toxicological Testing Forms-FRA F 6180.73 | 654 railroads, 160,822 regulated employees | 103 | 10 minutes | 17.17 | 89.13 | 1,530.37
—Specimen handling/collection—Form FRA F 6180.74 by train crew members after accident | 160,822 regulated employees | 219 | 15 minutes | 54.75 | 89.13 | 4,879.87
—(b) Collection of Post-Mortem Toxicology Samples-FRA F 6180.75 | 654 railroads, 160,822 regulated employees | 7 | 20 minutes | 2.33 | 89.13 | 207.68
—(d) Records of shipment chain of custody | 654 railroads, 160,822 regulated employees | 103 | 2 minutes | 3.43 | 89.13 | 305.72
—(e) Specimen security—Contemporaneous written record of kit error | 654 railroads, 160,822 regulated employees | 10 | 2 minutes | 0.33 | 89.13 | 29.42
219.206 FRA access to breath test results:
FRA anticipates zero submissions under this requirement over the next three-year period.
219.207 Fatality:
—(a) RR notification to local authority | 654 railroads, 160,822 regulated employees | 5 | 10 minutes | 0.83 | 89.13 | 73.98
219.209 Reports of tests and refusals:
—(a) Telephonic notification to National Response Center (NRC) and FRA of accident/incident where samples were obtained | 654 railroads, 160,822 regulated employees | 103 | 2 minutes | 3.43 | 89.13 | 305.72
219.211 Analysis and follow-up:
—(b) Results of post-accident toxicological testing to Railroad Medical Review Officer (MRO) employee | 654 railroads, 160,822 regulated employees | 7 | 15 minutes | 1.75 | 89.13 | 155.98
—(c) MRO report to FRA of positive test for alcohol/drugs of surviving employee | 654 railroads, 160,822 regulated employees | 6 | 15 minutes | 1.50 | 89.13 | 133.70
—(e) E-email or written response from employee to FRA regarding results of the toxicological analysis | FRA anticipates zero submissions under this requirement over the next three-years.
—(h) Recordkeeping—post-accident toxicology tests | Laboratories maintain records of specimens following an accident or incident. Consequently, there is no burden associated with this requirement.
—(i) Employee's request for a retest of split blood and urine samples | FRA estimates that it will receive zero (0) letters requesting that a sample be retested.
219.213 Unlawful refusals; consequences: |
—(a) Notice of disqualification | FRA estimates that there will be zero (0) employees who refuse to cooperate in providing blood or urine samples follow a PAT testing qualifying event.
—(b) Written notice for employee withdrawal from regulated service | FRA anticipates zero (0) submissions under this requirement over the next three-years.
219.303 Reasonable suspicion observations:
—(d) Railroad maintenance of written documentation of reasonable suspicion determination | 654 railroads, 160,822 regulated employees | 33 | 5 minutes | 2.75 | 89.13 | 245.11
219.305 Prompt specimen collection; time limitations:
—(b) Railroad written record stating reasons test was not promptly administered | 654 railroads, 160,822 regulated employees | 11 | 2 minutes | 0.37 | 89.13 | 32.98
219.405 Documentation requirements:
—(a) Written documentation describing basis for reasonable cause test | 654 railroads, 160,822 regulated employees | 2,314 | 5 minutes | 192.83 | 89.13 | 17,186.94
219.407 Prompt specimen collection; time limitations:
—(b) Record of prompt specimen collection time limitation exceeded | 654 railroads, 160,822 regulated employees | 17 | 15 minutes | 4.25 | 89.13 | 378.81
219.501 Pre-employment drug testing:
—(b) Railroad documentation of negative pre-employment drug tests for employees of contractors | 654 railroads, 64,000 contractor employees | 6,400 | 30 seconds | 53.33 | 89.13 | 4,753.31
219.605 Submission and approval of random testing plans:
—(a)(1) New railroads' submission of random testing plan | 12 railroads | 12 | 1 hour | 12.00 | 89.13 | 1,069.56
—(a)(2) Amendments to currently-approved FRA random testing plan | 654 railroads, 160,822 regulated employees | 450 | 1 hour | 450.00 | 89.13 | 40,108.50
—(b) Plan approval notification—Resubmitted random testing plans after non-approval by FRA | 654 railroads, 160,822 regulated employees | 56 | 30 minutes | 28.00 | 89.13 | 2,495.64
—(d)(2) Non-substantive amendment to an approved plan | 654 railroads, 160,822 regulated employees | 300 | 15 minutes | 75.00 | 89.13 | 6,684.75
219.615 Random testing collections:
—(f) Documentation of incomplete random testing collections | 654 railroads, 160,822 regulated employees | 2,250 | 30 seconds | 18.75 | 89.13 | 1,671.19
219.617 Participation in random alcohol and drug testing:
—(a)(3) Documentation supporting employee exclusion from random alcohol/drug testing due to a substantiated medical emergency | 654 railroads, 160,822 regulated employees | 6 | 1 hour | 6 | 89.13 | 534.78
219.623 Records:
—(a) Random testing records | 654 railroads, 160,822 regulated employees | 48,977 | 1 minute | 816.28 | 89.13 | 72,755.04
219.1001 Requirement for referral programs:
—Co-worker referral of employee who is unsafe to work or in violation of part 219 | 654 railroads, 160,822 regulated employees | 24 | 5 minutes | 2 | 89.13 | 178.26
Total ⁵ | 654 railroads, 160,822 regulated employees, 2,600 regulated contractors | 456,302 | N/A | 2,674 |  | 238,317

Estimated Annual Responses: 456,302.

⁴ The burden for this section is based on the estimated time it takes for a railroad representative to make a good faith determination using FRA's Post-Accident Determination App. FRA developed this app to help railroads make correct post-accident toxicological testing determinations and has made it available to download for free. See https://railroads.dot.gov/railroad-safety/divisions/drug-and-alcohol/post-accident-determination-app.

⁵ Totals may not add up due to rounding.

Total Estimated Annual Burden: 2,674 Hours.

Total Estimated Burden Hour Dollar Cost Equivalent: $238,317.

FRA informs all interested parties that it may not conduct or sponsor, and a respondent is not required to respond to, a collection of information that does not display a currently valid OMB control number.

Authority: 44 U.S.C. 3501-3520.

Christopher S. Van Nostrand,
Deputy Chief Counsel.

[FR Doc. 2025-03920 Filed 3-11-25; 8:45 am]

BILLING CODE 4910-06-P